DEPARTMENT OF TRANSPORTATION

Federal Aviation Administration

14 CFR Part 71

[Docket No. FAA-2007-28161; Airspace Docket No. 07-ASO-6]

RIN 2120-AA66

Establishment of Low Altitude Area Navigation Route T-209; GA

AGENCY: Federal Aviation Administration (FAA), DOT.

ACTION: Final rule.

SUMMARY: This action establishes a low altitude Global Positioning System (GPS)/Global Navigation Satellite System (GNSS) area navigation route, designated T-209, in the vicinity of Augusta, GA. This route allows for more effective utilization of airspace and enhances the management of aircraft operations in the vicinity of Augusta, GA.

EFFECTIVE DATE: 0901 UTC, June 5, 2008. The Director of the Federal Register approves this incorporation by reference action under 1 CFR part 51, subject to the annual revision of FAA Order 7400.9 and publication of conforming amendments.

FOR FURTHER INFORMATION CONTACT: Paul Gallant, Airspace and Rules Group, Office of System Operations Airspace and AIM, Federal Aviation Administration, 800 Independence Avenue, SW., Washington, DC 20591; telephone: (202) 267-8783.

SUPPLEMENTARY INFORMATION:

Background

On May 22, 2007, the FAA published in the Federal Register a notice of proposed rulemaking (NPRM) to establish T-209 in the vicinity of Augusta, GA (72 FR 28630). The purpose of the route is to provide a more direct route for north and southbound traffic west of Augusta, GA, and establish a published route to assist pilots navigating around the Bulldog A Military Operations Area (MOA). Interested parties were invited to participate in this rulemaking effort by submitting written comments on the proposal. Comments were received from the Aircraft Owners and Pilots Association (AOPA) and the U.S. Air Force (USAF).

AOPA wrote in support of the proposal. The USAF expressed concerns about the impact of the route on current use of the Bulldog B Military Operations Area (MOA), and the potential impact of the route on a special use airspace proposal previously submitted to, and now under review by, the FAA. Currently, there are two MOAs situated in the vicinity of the airspace through which T-209 passes. These existing MOAs are the Bulldog A MOA, which is located to the west of the T-209 airspace and extends from 500 feet above ground level up to but not including 10,000 feet MSL; and the Bulldog B MOA, which extends from 10,000 feet MSL up to but not including 18,000 feet MSL. The Bulldog B MOA overlies Bulldog A and it also extends beyond the Bulldog A boundaries on the east and south sides. The FAA has determined that the new route will not disrupt current military flight training operations in the Bulldog MOAs. T-209 passes through the airspace to the east of the Bulldog A MOA boundary and beneath the Bulldog B MOA. Currently, when the Bulldog A and B MOAs are used in conjunction with each other, ATC will clear military aircraft using the MOAs to operate at or above 11,000 feet MSL in that portion of Bulldog B, which extends beyond the lateral confines of Bulldog A. In those cases, T-209 will only be utilized at and below 10,000 feet MSL; therefore, the new route will not have any impact on the current Bulldog A or B MOA operations. It is estimated that 13,000 to 15,000 IFR general aviation overflights per year are vectored by ATC through the existing corridor that will encompass T-209. The establishment of T-209 will not significantly change this traffic volume.

The USAF also expressed concern about the possible impact of the new route on a proposal to modify the Bulldog MOAs that it previously submitted to the FAA. That proposal is still under review by the FAA. It should be noted that the FAA has not made a determination on the USAF's MOA proposal at this time. However, to facilitate real-time use of the Bulldog MOAs, and ensure separation of T-209 from MOA airspace, the FAA has moved the NASDE waypoint 4.2 NM to the east of the position proposed in the NPRM. The modified NASDE position also results in a straighter T-209 route segment between the EHEJO fix and the YASLO waypoint.

In this rule, the geographic coordinates for two points in the T-209 description differ slightly from those proposed in the NPRM. First, the proposed latitude/longitude position for the EHEJO, GA, fix contained a minor error amounting to approximately two seconds of latitude and one second of longitude. The correct position for the EHEJO fix is lat. 32°23′28″ N., long. 82°05′11″ W. Second, the NASDE, GA, waypoint is moved 4.2 NM to the east of the original proposed position, as discussed above. The revised position for NASDE is lat. 32°33′16″ N., long. 82°00′50″ W. In addition, this rule corrects the spelling of the JAMTA waypoint, which was incorrectly stated as JAMITA in the NPRM.

With the exception of above mentioned changes, this amendment is the same as that proposed in the NPRM.

The Rule

This action amends Title 14 Code of Federal Regulations (14 CFR) part 71 by establishing area navigation route T-209 in the vicinity of Augusta, GA. The new route extends between the Colliers, SC, very high frequency omnidirectional range/tactical air navigation (VORTAC) aid and the EHEJO, GA, navigation fix. T-209 provides a more direct route for northbound and southbound traffic and establishes a published route to assist aircraft navigating around the Bulldog A MOA.

Area navigation routes are published in paragraph 6011 of FAA Order 7400.9R, signed August 15, 2007 and effective September 15, 2007, which is incorporated by reference in 14 CFR 71.1. The area navigation route listed in this document will be published subsequently in the Order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it establishes area navigation route T-209 in the vicinity of Augusta, GA.

Environmental Review

The FAA has reviewed the above referenced action and determined that it is categorically excluded from further environmental documentation according to FAA Order 1050.1E, Environmental Impacts: Policies and Procedures, in accordance with paragraphs 311a. Additionally, the implementation of this action will not result in any extraordinary circumstances in accordance with FAA Order 1050.1E paragraph 304.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9R, Airspace Designations and Reporting Points, signed August 15, 2007, and effective September 15, 2007, is amended as follows:

Paragraph 6011 Contiguous United States Area Navigation Routes.

* * * * *

T-209 EHEJO, GA to Colliers, SC [New]

EHEJO, GA Fix (lat. 32°23′28″ N., long. 82°05′11″ W.)

NASDE, GA WP (lat. 32°33′16″ N., long. 82°00′50″ W.)

YASLU, GA WP (lat. 32°49′42″ N., long. 81°56′52″ W.)

JAMTA, GA WP (lat. 33°06′41″ N., long. 82°00′27″ W.)

Colliers, SC VORTAC (lat. 33°42′26″ N., long. 82°09′43″ W.)

* * * * *

Issued in Washington, DC, on March 25, 2008.
Paul Gallant,
Acting Manager, Airspace and Rules Group.

[FR Doc. E8-6922 Filed 4-3-08; 8:45 am]

BILLING CODE 4910-13-P